DEPARTMENT OF ENERGY

Federal Energy Regulatory Commission

[Docket No. RP02-452-000]

Northwest Pipeline Corporation; Notice of Proposed Changes in FERC Gas Tariff

August 6, 2002.

Take notice that on August 1, 2002, Northwest Pipeline Corporation (Northwest) tendered for filing as part of its FERC Gas Tariff, Third Revised Volume No. 1, the following tariff sheets, to be effective October 1, 2002:

Ninth Revised Sheet No.

231 Ninth Revised Sheet No. 231-A

Fourth Revised Sheet No. 231-B

Northwest states that the purpose of this filing is to change Northwest's current tariff provisions which require the fuel use requirements factor (Factor) applicable to its transportation rate schedules to be determined annually and instead provide for this Factor to be determined semi-annually.

Northwest states that a copy of this filing has been served upon Northwest's customers and interested state regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20326 Filed 8-9-02; 8:45 am]

BILLING CODE 6717-01-P